DEPARTMENT OF COMMERCE

National Oceanic and Atmospheric Administration

[I.D. 102903D]

Endangered Species; File No. 1245

AGENCY: National Marine Fisheries Service (NMFS), National Oceanic and Atmospheric Administration (NOAA), Commerce.

ACTION: Receipt of application for modification

SUMMARY: Notice is hereby given that J. David Whitaker, South Carolina Department of Natural Resources, P.O. Box 12559, Charleston, South Carolina 29422-2559, has requested a modification to scientific research Permit No. 1245.

DATES: Written or telefaxed comments must be received on or before December 15, 2003.

ADDRESSES: The modification request and related documents are available for review upon written request or by appointment in the following office(s):

Permits, Conservation and Education Division, Office of Protected Resources, NMFS, 1315 East-West Highway, Room 13705, Silver Spring, MD 20910; phone (301) 713-2289; fax (301) 713-0376; and

Southeast Region, NMFS, 9721 Executive Center Drive North, St. Petersburg, FL 33702-2432; phone (727) 570-5301; fax (727) 570-5320.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301) 713-0376, provided the facsimile is confirmed by hard copy submitted by mail and postmarked no later than the closing date of the comment period. Please note that comments will not be accepted by e-mail or other electronic media.

FOR FURTHER INFORMATION CONTACT: Jennifer Jefferies or Carrie Hubard, (301) 713-2289.

SUPPLEMENTARY INFORMATION: The subject modification to Permit No. 1245, issued on May 19, 2000 (65 FR 36666) is requested under the authority of the Endangered Species Act of 1973, as amended (16 U.S.C. 1531 et seq.) and the regulations governing the taking, importing, and exporting of endangered and threatened species (50 CFR 222-226).

Permit No. 1245 authorizes the permit holder to capture, handle, flipper and PIT tag, blood and tissue sample, perform ultrasound and release 350 loggerhead (Caretta caretta), 50 Kemp's ridley (Lepidochelys kempii), 10 green (Chelonia mydas), 5 hawksbill (Eretmochelys imbricata) and 3 leatherback (Dermochelys coriacea) turtles along the South Carolina coastline. The permit holder is requesting authorization to satellite tag 9 loggerhead turtles and acoustic tag 24 loggerhead turtles. No more than 6 individuals will receive both tags. The purpose of the tags is to begin to determine feeding site fidelity and migratory patterns of juvenile loggerhead sea turtles along the South Carolina coastline. The permit holder is also requesting a one year extension of the permit, which would mean Permit No. 1245 would expire on October 31, 2005.

Dated: November 6, 2003.
Tammy C. Adams,
Acting Chief, Permits, Conservation and Education Division, Office of Protected Resources, National Marine Fisheries Service.

[FR Doc. 03-28384 Filed 11-12-03; 8:45 am]

BILLING CODE 3510-22-S